DEPARTMENT OF ENERGY

Federal Energy Regulatory Commission

[Project No.: 2660-030]

Notice of Technical Meeting; Woodland Pulp, LLC

a. Project Name and Number: Forest City Project No. 2660.

b. Project location: The project is located on the East Branch of the St. Croix River in Washington and Aroostook counties, Maine.

c. Project licensee: Woodland Pulp, LLC.

d. FERC Contact: Michael Calloway, (202) 502-8041, or michael.calloway@ferc.gov.

e. Date, Time, and Location of Technical Meeting: Take notice that the Federal Energy Regulatory Commission (Commission) will convene a staff-led technical meeting in the above-referenced proceeding on August 28, 2019 at 3:30 p.m. Eastern Standard Time. The technical meeting will be held at the East Grand High School cafeteria located at 31 Houlton Road Danforth, ME.

f. Purpose of technical meeting: The purpose of the meeting is limited to gathering new technical information concerning the following three items: (1) Whether there are alternative modes of project operation that could demonstrably lower the project's impact on downstream generation; (2) whether there are methods for implementing license requirements in an economically efficient manner; and (3) whether there are decommissioning plans that would meet the needs of stakeholders. The purpose of the meeting is not to discuss legal issues.

The technical meeting will be in the form of a panel discussion. The following participants have been invited to appear on the panel: Woodland Pulp, LLC; U.S. Fish and Wildlife Service Ecological Services Maine Field Office; Maine Department of Environmental Protection; and the Maine Department Inland Fisheries and Wildlife.

Following the conclusion of the panel discussion, the public will have an opportunity to comment. All previous comments filed with the Commission are on record and will be considered in this proceeding. Therefore it will not be necessary to repeat previous statements.

g. Staff request that panelists come prepared to discuss the following topics:

(1) The impacts of operation of the Forest City Project as proposed under the modified operations and maintenance agreement and the effect it would have on downstream power generation, including ways to produce evidence supporting any reduction in downstream generation benefits.

(2) Whether there are methods for complying with the project's existing operational requirements that could improve project economic efficiency.

(3) Strategies that would ensure the protection of fish passage, recreational interests, and public access while maintaining compliance with the project license.

(4) Possible alternatives regarding the licensee's proposal to surrender the license while addressing dam safety, recreation, navigation, and migratory fish.

h. The technical meeting will be transcribed by a court reporter and the transcript will be placed in the public record of this proceeding.

Dated: July 26, 2019.
Nathaniel J. Davis, Sr.,
Deputy Secretary.

[FR Doc. 2019-16461 Filed 8-1-19; 8:45 am]

BILLING CODE 6717-01-P